DEPARTMENT OF HEALTH AND HUMAN SERVICES

National Toxicology Program (NTP); Report on Carcinogens (RoC); Availability of the Draft Background Document for Glass Wool Fibers; Request for Comments on the Draft Background Document; Announcement of the Glass Wool Fibers Expert Panel Meeting

AGENCY: National Institute of Environmental Health Sciences (NIEHS); National Institutes of Health (NIH).

ACTION: Availability of Draft Background Document; Request for Comments; and Announcement of a Meeting.

SUMMARY: The NTP announces the availability of the draft background document for glass wool fibers by April 9, 2009, on the RoC Web site (http://ntp.niehs.nih.gov/go/29679) or in printed text from the RoC (see ADDRESSES below). The NTP invites the submission of public comments on the draft background document for glass wool fibers. An expert panel will meet on June 9-10, 2009, at the Sheraton Chapel Hill Hotel, One Europa Drive, Chapel Hill, NC 27514 to peer review the draft background document for glass wool fibers and, once completed, make a recommendation regarding the listing status (i.e., known to be a human carcinogen, reasonably anticipated to be a human carcinogen, or not to list) for glass wool fibers or categories of glass wool fibers (that is “certain” glass wool fibers) in the 12th RoC. The RoC expert panel meeting is open to the public with time scheduled for oral public comments. Attendance is limited only by the available meeting room space. Following the expert panel meeting and completion of the expert panel report, the NTP will post the final background document and the expert panel peer review report on the RoC Web site.

DATES: The expert panel meeting for glass wool fibers will be held on June 9-10, 2009. The draft background document for glass wool fibers will be available for public comment by April 9, 2009. The deadline to submit written comments is May 22, 2009, and the deadline for pre-registration to attend the meeting and/or provide oral comments at the meeting is June 1, 2009.

ADDRESSES: The RoC expert panel meeting on glass wool fibers will be held at the Sheraton Chapel Hill Hotel, One Europa Drive, Chapel Hill, NC 27514. Access to on-line registration and materials for the meeting are available on the RoC Web site (http://ntp.niehs.nih.gov/go/29679). Comments on the draft background document should be sent to Dr. Ruth M. Lunn, NIEHS, P.O. Box 12233, MD K2-14, Research Triangle Park, NC 27709, FAX: (919) 541-0144, or lunn@niehs.nih.gov. Courier address: Report on Carcinogens Center, 530 Davis Drive, Room 2006, Durham, NC 27713. Persons needing interpreting services in order to attend should contact (301) 402-8180 (voice) or (301) 435-1908 (TTY). Requests should be made at least seven business days in advance of the meeting.

FOR FURTHER INFORMATION CONTACT: Dr. Ruth M. Lunn, Director, RoC Center, (919) 316-4637, lunn@niehs.nih.gov.

SUPPLEMENTARY INFORMATION:

Background

The NTP announced the RoC review process for the 12th RoC on April 16, 2007 in the Federal Register (72FR18999 available at http://ntp.niehs.nih.gov/go/15208). An expert panel meeting is being convened on June 9-10, 2009, to review glass wool fibers for the 12th RoC. The draft background document for glass wool fibers will be available on the RoC website by April 9, 2009, or in printed text from the RoC Center (see ADDRESSES above). Persons can register free-of-charge with the NTP listserv (http://ntp.niehs.nih.gov/go/231) to receive notification when draft RoC background documents for candidate substances for the 12th RoC are made available on the RoC Web site.

Glass wool refers to fine glass fibers forming a mass resembling wool and is most commonly used for insulation and filtration. Two categories of glass wool based upon commercial application are insulation glass wool and special-purpose fibers. Insulation glass wools are used for applications such as thermal, electrical, and acoustical insulation and in weatherproofing, while the term “special-purpose glass fibers” is used to describe a category of fibers distinguished by their use in specialized products that include aircraft and aerospace insulation, battery separators, and high efficiency filters. Although having different uses, there is not a clear separation between the physico-chemical properties of insulation glass wools and special purpose fibers.

Glass wool (respirable size) is currently listed in the 11th RoC as reasonably anticipated to be a human carcinogen, and has been nominated for removal from the RoC. The draft background document reviews the literature on glass wool fibers. There are considerable differences in the chemical compositions and physical characteristics of glass fibers, which may influence the toxicology and potential carcinogenicity of the fibers. The expert panel will be asked to review glass wool fibers and make a recommendation on the listing status of glass wool fibers or categories of glass wool fibers in the RoC.

Preliminary Agenda and Registration

Preliminary agenda topics include:

• Oral public comments on glass wool fibers.

• Peer review of the draft background document on glass wool fibers.

• Recommendation on the listing status of glass wool fibers in the 12th RoC and scientific justification.

The meeting is scheduled for June 9-10, 2009, from 8:30 a.m. to adjournment each day. A copy of the preliminary agenda, expert panel roster, and any additional information, when available, will be posted on the RoC Web site or may be requested from the Director of the RoC Center (see ADDRESSES above). Individuals who plan to attend the meeting are encouraged to register on-line by June 1, 2009, to facilitate planning for the meeting.

Request for Comments

The NTP invites both written and oral public comments on the draft background document on glass wool fibers. Persons submitting written comments are asked to include their name and contact information (affiliation, mailing address, telephone and facsimile numbers, e-mail, and sponsoring organization, if any) and send them to Dr. Lunn (see ADDRESSES above) for receipt by May 22, 2009. All written comments identified by the individual's name, affiliation, and sponsoring organization (if applicable) will be posted on the RoC Web site prior to the meeting and distributed to the expert panel for their consideration in the peer review of the draft background document and/or preparation for the meeting.

Time will be set aside at the expert panel meeting for the presentation of oral public comments. Seven minutes will be available for each speaker (one speaker per organization). Persons wishing to present oral comments can register on-line or contact Dr. Lunn (see ADDRESSES above). When registering to comment orally, please provide your name, affiliation, mailing address, telephone and facsimile numbers, e-mail and sponsoring organization (if any). If possible, send a copy of the statement or talking points to Dr. Lunn by June 1, 2009. This statement will be provided to the expert panel to assist them in identifying issues for discussion and will be noted in the meeting record. Registration for presentation of oral comments will also be available at the meeting on June 9-10, 2009, from 7:30-8:30 a.m. Time allowed for comments by on-site registrants may be less than for pre-registered speakers and will be determined by the number of persons who register at the meeting to give oral comments. Persons registering at the meeting are asked to bring 25 copies of their statement or talking points for distribution to the expert panel and for the record.

Background Information on the RoC

The RoC is a congressionally mandated document [Section 301(b)(4) of the Public Health Services Act, 42 U.S.C. 241(b)(4)], that identifies and discusses agents, substances, mixtures, or exposure circumstances (collectively referred to as “substances”) that may pose a hazard to human health by virtue of their carcinogenicity. Substances are listed in the report as either known or reasonably anticipated to be human carcinogens. The NTP prepares the RoC on behalf of the Secretary of Health and Human Services.

Information about the RoC and the nomination process can be obtained from its homepage (http://ntp.niehs.nih.gov/go/roc) or by contacting Dr. Lunn (see FOR FURTHER INFORMATION CONTACT above). The NTP follows a formal, multi-step process for review and evaluation of selected substances. The formal evaluation process is available on the RoC Web site (http://ntp.niehs.nih.gov/go/15208) or in printed copy from the RoC Center.

Dated: March 30, 2009.
John R. Bucher,
Associate Director, National Toxicology Program.

[FR Doc. E9-7881 Filed 4-7-09; 8:45 am]

BILLING CODE 4140-01-P